DEPARTMENT OF HEALTH AND HUMAN SERVICES

National Institutes of Health

Office of the Director, National Institutes of Health Amended Notice of Meeting

Notice is hereby given of a change in the meeting of the Advisory Committee to the Director, National Institutes of Health, June 13, 2019, 09:00 a.m. to June 14, 2019, 01:00 p.m. National Institutes of Health, Building 45, 45 Center Drive, Conference Room D, Bethesda, MD 20892 which was published in the Federal Register on February 15, 2019, 84 FR 4492.

The meeting notice is amended to change the meeting location from NIH, Natcher Building, Conference Room D, 45 Center Drive, Bethesda, MD 20892 to NIH, Building 1, Wilson Hall, 1 Center Drive, Bethesda, MD 20892. The meeting is open to the public.

Dated: April 26, 2019.
Natasha M. Copeland,
Program Analyst, Office of Federal Advisory Committee Policy.

[FR Doc. 2019-08878 Filed 5-1-19; 8:45 am]

BILLING CODE 4140-01-P